NUCLEAR REGULATORY COMMISSION

[Docket No. 50-336]

Dominion Nuclear Connecticut, Inc.; Notice of Issuance of Amendment to Facility Operating License

The U.S. Nuclear Regulatory Commission (Commission) has issued Amendment No. 265 to Facility Operating License No. DPR-65 issued to Dominion Nuclear Connecticut, Inc., (the licensee), which revised the Final Safety Analysis Report (FSAR) for operation of the Millstone Nuclear Power Station, Unit No. 2, (MP2), located in New London County, Connecticut. The amendment is effective as of the date of issuance.

The amendment modified the MP2 FSAR, Chapter 14, description of the Steam Generator Tube Rupture (SGTR) event and its associated radiological dose consequences. The changes are not the result of hardware changes to the plant or changes in operating practices. Rather, the changes are the result of incorporating a postulated loss of offsite power into the event analyses as well as revised assumptions and analysis methodology. The FSAR changes show that the postulated dose consequences for the updated SGTR analysis are higher than the dose consequences for the previous analysis. However, the updated dose consequences are less than the dose guidelines of 10 CFR Part 100, Reactor Site Criteria, and 10 CFR Part 50, Appendix A, General Design Criterion (GDC) 19, Control Room.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on April 23, 2001 (66 FR 20485). No request for a hearing or petition for leave to intervene was filed following this notice.

The Commission has prepared an Environmental Assessment related to the action and has determined not to prepare an environmental impact statement. Based upon the environmental assessment, the Commission has concluded that the issuance of the amendment will not have a significant effect on the quality of the human environment (67 FR 18044).

Further details with respect to the action see (1) the application for amendment dated December 21, 2000, as supplemented June 29, 2001, (2) Amendment No. 265 to License No. DPR-65, (3) the Commission's related Safety Evaluation, and (4) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/reading-rm/adams.html. Persons who do not have access to ADAMS or who encounter problems in accessing the documents located in ADAMS, should contact the NRC Public Document Room Reference staff by telephone at 1-800-397-4209, 301-415-4737 or by email to pdr@nrc.gov.

Dated at Rockville, Maryland, this 29th day of April 2002.
For the Nuclear Regulatory Commission.
Richard B. Ennis, Sr.
Project Manager, Section 2, Project Directorate I, Division of Licensing, Project Management Office of Nuclear Reactor Regulation.

[FR Doc. 02-11279 Filed 5-6-02; 8:45 am]

BILLING CODE 7590-01-P